DEPARTMENT OF AGRICULTURE

Forest Service

Chugach National Forest, Glacier Ranger District, Alaska—Spencer Mineral Materials Project

AGENCY: Forest Service, USDA.

ACTION: Notice of intent to prepare an environmental impact statement.

SUMMARY: This project proposes the sale of mineral materials in the form of gravel aggregate and quarry rock from up to 570 acres at Spencer on the Glacier Ranger District of the Chugach National Forest, and will analyze removal of these materials within the constraints of the Chugach National Forest Revised Land and Resource Management Plan.

DATES: Comments and input regarding the proposal were requested from the public, other groups and agencies via direct mailing on November 16, 2006. Based on the comments received, the Responsible Official has determined that an environmental impact statement will be prepared for this project. The draft environmental impact statement is expected in May, 2007 and the final environmental impact statement is expected August, 2007.

ADDRESSES: Send written comments to Alice Allen, Hell Canyon Ranger District, 330 Mt. Rushmore Rd., Custer, South Dakota 57730. Comment may also be submitted by e-mail to: comments-alaska-chugach-glacier@fs.fed.us with “Spencer Minerals” as subject.

FOR FURTHER INFORMATION CONTACT: Alice Allen, Project Coordinator, Black Hills National Forest, Hell Canyon Ranger District, at 330 Mt. Rushmore Rd., phone (605) 673-4853.

SUPPLEMENTARY INFORMATION: Purpose and Need for Action: The purpose of the project is to authorize the sale of mineral materials (gravel aggregate and quarry rock). The EIS will determine current conditions, analyze environmental consequences of mineral extraction on those conditions, and assist the decisionmaker in selecting management/monitoring strategies consistent with meeting desired conditions in the CRLRMP, including one of the goals for “Minerals”. The Forest Service seeks to continue to provide high quality mineral materials for the State of Alaska from the Spencer site as a valid multiple use while maintaining the integrity of the recreational experience at Spencer and restoring a more natural landscape.

Proposed Action: The Forest Service will evaluate, analyze and determine the ability to develop and extract quarry rock and gravel aggregate from a mineral materials site at Spencer. Production of these materials will be permitted on all or a portion of the approximately 570-acre site for up to 15 years. The site(s) chosen for mineral material extraction will be situated and operated so as not to conflict with a high quality recreation experience at the Spencer Glacier Whistle Stop.

Issues: Key issues identified during scoping include impacts of the proposal to recreationists at Spencer; conflicts with valid existing placer claims; impacts on water quality; impacts on wildlife and wildlife habitat; economic feasibility of the proposal; and public safety.

Possible Alternatives: The No Action alternative would not allow extraction of mineral materials from the Spencer site at this time. Alternative B would minimize impacts to recreationists. Alternative C would minimize visual impacts. Alternative D would allow gravel extraction from a larger area than Alternative B or C but less than Alternative A.

Responsible Official: The Responsible Official for this project on the Glacier Ranger District is Joe Meade, Forest Supervisor, Chugach National Forest, 3301 “C” Street, Suite 300, Anchorage, Alaska.

Nature of Decision To Be Made: The Forest Service will evaluate the proposed action and alternatives. After reviewing the proposed action, the alternatives, the environmental analysis, and considering public comment, the Forest Supervisor will reach a decision that is in accordance with the purpose and need for this project. The decision will include, but not be limited to:

(1) Whether or not to permit production of mineral materials from the Spencer site.

(2) What will be the size and location of the area(s) permitted for mineral materials production.

(3) What types of equipment and facilities will be allowed in the permitted area to support minerals materials operations.

(4) What methods of extraction will be allowed and/or prohibited.

(5) What constraints will apply to mineral materials operations to provide a high quality recreational experience at the Spencer Glacier Whistle Stop.

Public Comment: Comments and input regarding the proposal were requested from the public, other groups and agencies via direct mailing on November 16, 2006. Based on the comments received, the Responsible Official has determined that an environmental impact statement will be prepared for this project. Additional comments will be accepted during a 45-day public comment following publication of the draft environmental impact statement in May, 2007.

Early Notice of Importance of Public Participation in Subsequent Environmental Review: A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these courts rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority, 40 CFR 1501.7 and 1508.22; Forest Service Handbook 1909.15, Section 21)

Dated: February 15, 2007.
Joe L. Meade,
Forest Supervisor, Chugach National Forest.

[FR Doc. 07-944 Filed 3-1-07; 8:45 am]

BILLING CODE 3410-11-M